ENVIRONMENTAL PROTECTION AGENCY

40 CFR Part 80

[EPA-HQ-OAR-2008-0558; FRL-8771-6]

RIN 2060-AP17

Regulation of Fuels and Fuel Additives: Gasoline and Diesel Fuel Test Methods

AGENCY: Environmental Protection Agency (EPA).

ACTION: Partial Withdrawal of Direct Final Rule.

SUMMARY: Because EPA received adverse comment, we are withdrawing the provision for the allowance of an alternative test method for olefins in gasoline of the direct final, published on December 8, 2008.

DATES: Effective February 6, 2009, EPA withdraws the amendments to 40 CFR 80.46(b)(2)(i) and 40 CFR 80.46(h)(1)(iii) published at 73 FR 74350 on December 8, 2008.

FOR FURTHER INFORMATION CONTACT: Joe Sopata, Transportation and Regional Programs Division, Office of Transportation and Air Quality (Mail Code: 6406J), Environmental Protection Agency, 1200 Pennsylvania Avenue, NW., 20460; telephone number: (202) 343-9034; fax number: (202) 343-2802; e-mail address: sopata.joe@epa.gov.

SUPPLEMENTARY INFORMATION: Because EPA received adverse comment, we are withdrawing the provision to allow ASTM D6550 as an alternative test method for measuring the olefin content of gasoline, published on December 8, 2008. We stated in that direct final rule that if we received adverse comment by January 7, 2008, the portions of the direct final rule on which adverse comments were received would not take effect, and we would publish a timely withdrawal of such portions of the direct final rule in the Federal Register. We subsequently received an adverse comment on the following provision: The amendments to 40 CFR 80.46(b)(2)(i) to allow ASTM D6550 as an alternative test method for olefins in gasoline. Because EPA received an adverse comment, we are withdrawing this provision, as well as 40 CFR 80.46(h)(1)(iii) which incorporates ASTM D6550 by reference.

EPA published a parallel proposed rule on the same day as the direct final rule. The proposed rule invited comment on the substance of the direct final rule. We will address the comment received on the portions of the direct final rule being withdrawn today in a subsequent final action based on the parallel proposed rule also published on December 8, 2008 (73 FR 74403). The provisions for which we did not receive adverse comment will become effective on February 6, 2009, as provided in the December 8, 2008, direct final rule.

Dated: February 2, 2009.
Lisa P. Jackson,
Administrator.

Accordingly, the amendments to 40 CFR 80.46(b)(2)(i) and 40 CFR 80.46(h)(1)(iii) published at 73 FR 74350 on December 8, 2008 are withdrawn and reserved as of February 6, 2009.

[FR Doc. E9-2560 Filed 2-5-09; 8:45 am]

BILLING CODE 6560-50-P